DEPARTMENT OF TRANSPORTATION

Federal Aviation Administration

Public Notice for Waiver of Aeronautical Land-Use Assurance— Dayton Wright Brothers Airport; Dayton, OH

AGENCY: Federal Aviation Administration, DOT.

ACTION: Notice of intent of waiver with respect to land.

SUMMARY: The Federal Aviation Administration (FAA) is considering a proposal to change a portion of the airport from aeronautical use to non-aeronautical use and to authorize the release of 5.597 acres of airport property for non-aeronautical use. The land consists of portions of 2 original airport acquired parcels. These parcels were acquired under grants 5-39-0030-01, 5-39-0030-02, 5-39-0030-03, 5-39-0030-05, and 3-39-0030-01. There are no impacts to the airport by allowing the City of Dayton to sell the property. The land is not needed for aeronautical use. Approval does not constitute a commitment by the FAA to financially assist in the sale of the subject airport property nor a determination of eligibility for grant-in-aid funding from the FAA. The disposition of proceeds from the sale of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 9, 2009.

ADDRESSES: Written comments on the Sponsor's request must be delivered or mailed to: Irene R. Porter, Program Manager, Detroit Airports District Office, 11677 South Wayne Road, Suite 107, Romulus, MI 48174.

FOR FURTHER INFORMATION CONTACT: Irene R. Porter, Program Manager, Federal Aviation Administration, Great Lakes Region, Detroit Airports District Office, DET ADO-607, 11677 South Wayne Road, Suite 107, Romulus, Michigan 48174. Telephone Number (734-229-2915)/FAX Number (734-229-2950). Documents reflecting this FAA action may be reviewed at this same location or at Dayton Wright Brothers Airport, Dayton, Ohio.

SUPPLEMENTARY INFORMATION:

Parcel 126 LA

Situated in the State of Ohio, in the County of Montgomery, in the Township of Miami, in section 10, Town 2, Range 5 M.R.S. and being a part of a tract of land currently owned by The City of Dayton as currently described in the reference instrument M.F. #74-023 D06.

Being a parcel of land lying on the right and left sides of the centerline of proposed Austin Pike (C.R. 166) of Project MOT-75-0.75, made by the Ohio Department of Transportation in Book 207, Page 12A, B, & C, of the records of Montgomery County, and being located within the following described points in the boundary thereof:

Beginning for reference at the proposed centerline monument located at the intersection of the Miamisburg-Springboro Pike (C.R. 166)/Austin Pike, station 178+80.09 and S.R. 741, station 39+56.49, said point having the following project adjusted coordinates: North 586268.7404; East 1481449.0814;

Thence along the proposed centerline Austin Pike (C.R. 166), South 88 degrees 30 minutes 19 seconds East 60.12 feet to a point located at station 179+40.21, said point being the intersection of the proposed centerline and the existing Limited Access Right-of-Way of S.R. 741;

thence leaving the proposed centerline and along the existing Limited Access Right-of-Way, South 05 degrees 06 minutes 52 seconds West 15.29 feet to a point located 15.26 feet right of station 179+39.24, said point also being 60.00 feet right of S.R. 741, station 39+45.00, and being the intersection of the existing Limited Access Right-of-Way and the grantor's northwestern property corner and the existing Right-of-Way of Austin Pike (C.R. 166) and the true point of beginning of the following described parcel:

thence leaving the existing Limited Access Right-of-Way and along the existing Right-of-Way and the grantor's northern property line, North 84 degrees 12 minutes 44 seconds East 397.73 feet, passing the proposed centerline at 120.36 feet, to a point located 35.16 feet left of station 183+33.78;

thence continuing along the existing Right-of-Way and the grantor's northern property line, North 01 degrees 01 minutes 54 seconds East 24.16 feet to a point located 59.32 feet left of station 183+33.56, said point being the intersection of the existing Right-of-Way and the grantor's northern property line and the existing centerline of Right-of-Way;

thence leaving the existing Right-of-Way and along the existing centerline of Right-of-Way and the grantor's northern property line, South 88 degrees 58 minutes 06 seconds East 366.45 feet to a point located 62.28 feet left of station 187+00.00, said point being the intersection of the existing centerline of Right-of-Way and the grantor's northern property line and the proposed Limited Access Right-of-Way;

thence leaving the existing centerline of Right-of-Way and the grantor's northern property line and along the proposed Limited Access Right-of-Way, South 01 degrees 29 minutes 41 seconds West 24.16 feet to a point located 38.12 feet left of station 187+00.00, said point being the intersection of the proposed Limited Access Right-of-Way and the existing Right-of-Way;

thence continuing along the proposed Limited Access Right-of-Way, South 01 degrees 29 minutes 41 seconds West 130.54 feet, passing the proposed centerline at 38.12 feet, to an iron pin to be set 92.42 feet right of station 187+00.00, said point being the intersection of the proposed Limited Access Right-of-Way and the proposed Right-of-Way;

thence, North 88 degrees 30 minutes 19 seconds West 150.00 feet to an iron pin to be set 92.42 feet right of station 185+50.00;

thence, South 84 degrees 42 minutes 42 seconds West 402.82 feet, passing and iron pin to be set at 196.74 feet, to an iron pin to be set 140.00 feet right of station 181+50.00;

thence, North 88 degrees 30 minutes 19 seconds West 150.00 feet, passing and iron pin to be set at 137.70 feet, to an iron pin to be set 140.00 feet right of station 180+00.00, said point also being 128.51 feet right of S.R. 741, station 38+24.34;

the following calls are described referencing the existing S.R. 741 centerline;

thence, South 74 degrees 08 minutes 39 seconds West 73.36 feet, passing an iron pin to be set at 68.01 feet, to an iron pin to be set 60.00 feet right of station 37+98.08, said point being the intersection of the proposed Limited Access Right-of-Way and the existing Limited Access Right-of-Way of S.R. 741;

thence along the existing Limited Access Right-of-Way, North 05 degrees 06 minutes 48 seconds East 146.92 feet to the point of beginning.

The above described area is located within Montgomery County Auditor's Permanent Parcel Number K45 02602 0015. The parcel contains 2.693 acres, more or less.

Parcel 126 SHV

Situated in the State of Ohio, in the County of Montgomery, in the Township of Miami, in section 10, Town 2, Range 5 M.R.S. and being a part of a tract of land currently owned by The City of Dayton as currently described in the reference instrument M.F. #74-023 D06.

Being a parcel of land lying on the right and left sides of the centerline of proposed Austin Pike (C.R. 166) of Project MOT-75-0.75, made by the Ohio Department of Transportation in Book 207, Page 12A, B, & C, of the records of Montgomery County, and being located within the following described points in the boundary thereof:

Beginning for reference at the proposed centerline monument located at the intersection of the Miamisburg-Springboro Pike (C.R. 166)/Austin Pike, station 178+80.09 and S.R. 741, station 39+56.49, said point having the following project adjusted coordinates: North 586268.7404; East 1481449.0814; Thence along the proposed centerline of Austin Pike (C.R. 166), South 88 degrees 30 minutes 19 seconds East 819.91 feet to a point located at station 187+00.00, said point being the intersection of the proposed Limited Access Right-of-Way and the true point of beginning of the following described parcel:

thence leaving the proposed centerline and along the proposed Limited Access Right-of-Way, North 01 degrees 29 minutes 41 seconds East 38.12 feet to a point located 38.12 feet left of station 187+00.00, said point being the intersection of the proposed Limited Access Right-of-Way and the existing Right-of-Way;

thence continuing along the proposed Limited Access Right-of-Way, North 01 degrees 29 minutes 41 seconds East 24.16 feet to a point located 62.28 feet left of station 187+00.00, said point being the intersection of the proposed Limited Access Right-of-Way and the existing centerline of Right-of-Way of Austin Pike (C.R. 166) and the grantor's northern property line;

thence leaving the proposed Limited Access Right-of-Way and along the existing centerline of Right-of-Way and the grantor's northern property line, South 88 degrees 58 minutes 06 seconds East 767.05 feet to a point located 4.95 feet left of station 194+71.78;

thence continuing along the existing centerline of Right-of-Way and the grantor's northern property line, North 89 degrees 16 minutes 51 seconds East 313.42 feet to a point located 2.85 feet left of station 197+85.00, said point being the intersection of the existing centerline of Right-of-Way and the grantor's northern property line and the proposed Right-of-Way;

thence leaving the existing centerline of Right-of-Way and the grantor's northern property line and along the proposed Right-of-Way, South 00 degrees 43 minutes 10 seconds East 24.13 feet, passing the proposed centerline at 2.85 feet, to an iron pin to be set 21.28 feet right of station 197+85.00, said point being the intersection of the proposed and the existing Right-of-Way;

thence, South 55 degrees 11 minutes 45 seconds West 72.45 feet to an iron pin to be set 61.88 feet right of station 197+25.00;

thence, South 84 degrees 57 minutes 40 seconds West 485.32 feet to an iron pin to be set 71.13 feet right of station 192+30.00;

thence, South 76 degrees 48 minutes 01 seconds West 200.25 feet to an iron pin to be set 97.80 feet right of station 190+39.86;

thence, North 88 degrees 30 minutes 19 seconds West 346.89 feet to an iron pin to be set 92.42 feet right of station 187+00.00, said point being the intersection of the proposed Limited Access Right-of-Way and the proposed Right-of-Way;

thence along the proposed Limited Access Right-of-Way, North 01 degrees 29 minutes 41 seconds East 92.42 feet to the point of beginning.

The above described area is located within Montgomery County Auditor's Permanent Parcel Number K45 02602 0015. The parcel contains 2.831 acres, more or less.

Parcel 126 CH

Situated in the State of Ohio, in the County of Montgomery, in the Township of Miami, in section 10, Town 2, Range 5 M.R.S. and being a part of a tract of land currently owned by The City of Dayton as currently described in the reference instrument M.F. #74-023 D06.

Being a parcel of land lying on the right side of the centerline of existing S.R. 741 of Project MOT-75-0.75, made by the Ohio Department of Transportation in Book 207, Pages 12A, B, & C, of the records of Montgomery County, and being located within the following described points in the boundary thereof:

Beginning for reference at the proposed centerline monument located at the intersection of the Miamisburg-Springboro Pike (C.R. 166), station 178+80.09 and S.R. 741, station 39+56.49, said point having the following project adjusted coordinates: North 586268.7404; East 1481449.0814;

thence along the existing centerline of S.R. 741, South 05 degrees 06 minutes 48 seconds West 1,765.83 feet to a point located at station 21+90.66;

thence leaving the existing centerline, South 84 degrees 53 minutes 12 seconds East 73.00 feet to a point 73.00 feet right of station 21+90.66, said point being on the grantor's western property line and the existing Right-of-Way of S.R. 741 and the western line of an existing channel easement owned by the State of Ohio, conveyed by M.F.# 78-638 E02, in the Montgomery County Recorder's Office;

thence leaving the existing Right-of-Way and crossing the existing channel easement owned by the State of Ohio, South 84 degrees 53 minutes 12 seconds East 6.37 feet to an iron pin to be set 79.37 feet right of station 21+90.66, said point being the intersection of the eastern line of an existing channel easement owned by the State of Ohio and the proposed channel easement and the true point of beginning of the following described parcel:

thence along the proposed channel easement, South 28 degrees 17 minutes 30 seconds East 14.52 feet to an iron pin to be set 87.36 feet right of station 21+78.54;

thence continuing along the proposed channel easement, South 05 degrees 08 minutes 51 seconds West 110.34 feet to an iron pin to be set 87.65 feet right of station 20+68.51;

thence continuing along the proposed channel easement, South 24 degrees 59 minutes 51 seconds West 23.56 feet to an iron pin to be set 79.72 feet right of station 20+46.33, said point being the intersection of the proposed channel easement and the eastern line of an existing channel easement owned by the State of Ohio;

thence continuing along the proposed channel easement and along the eastern line of an existing channel easement owned by the State of Ohio, North 05 degrees 08 minutes 51 seconds East 144.61 feet to the point of beginning.

The above described area is located within Montgomery County Auditor's Permanent Parcel Number K45 02602 0010. The parcel contains 0.023 acres, more or less.

Parcel 126 CH-1

Situated in the State of Ohio, in the County of Montgomery, in the Township of Miami, in section 10, Town 2, Range 5 M.R.S. and being a part of a tract of land currently owned by The City of Dayton as currently described in the reference instrument M.F. #74-023 D06.

Being a parcel of land lying on the right side of the centerline of existing S.R. 741 of Project MOT-75-0.75, made by the Ohio Department of Transportation in Book 207, Pages 12A, B, & C, of the records of Montgomery County, and being located within the following described points in the boundary thereof:

Beginning for reference at the proposed centerline monument located at the intersection of the Miamisburg-Springboro Pike (C.R. 166), station 178+80.09 and S.R. 741, station 39+56.49, said point having the following project adjusted coordinates: North 586268.7404; East 1481449.0814;

thence along the existing centerline of S.R. 741, South 05 degrees 06 minutes 48 seconds West 706.49 feet to a point located at station 32+50.00;

thence leaving the existing centerline, South 84 degrees 53 minutes 12 seconds East 65.00 feet to a point 65.00 feet right of station 32+50.00, said point being on the grantor's western property line and the existing Right-of-Way of and the proposed Limited Access Right-of-Way of S.R. 741 and the western line of an existing channel easement owned by the State of Ohio, conveyed by M.F.# 78-638 E02, in the Montgomery County Recorder's Office;

thence leaving the existing Right-of-Way and the proposed Limited Access Right-of-Way and crossing the existing channel easement owned by the State of Ohio, South 84 degrees 53 minutes 12 seconds East 15.00 feet to a point located 80.00 feet right of station 32+50.00, said point being on the eastern line of an existing channel easement owned by the State of Ohio and the true point of beginning of the following described parcel:

thence along the existing channel easement owned by the State of Ohio, North 34 degrees 33 minutes 31 seconds East 30.51 feet to an iron pin to be set 95.00 feet right of station 32+76.57, said point being the intersection of the existing channel easement owned by the State of Ohio and the proposed channel easement;

thence leaving the existing channel easement owned by the State of Ohio and along the proposed channel easement, South 05 degrees 06 minutes 48 seconds West 136.57 feet to an iron pin to be set 95.00 feet right of station 31+40.00;

thence continuing along the proposed channel easement, North 84 degrees 53 minutes 12 seconds West 15.07 feet to an iron pin to be set 79.93 feet right of station 31+40.00, said point being the intersection of the proposed channel easement and the eastern line of an existing channel easement owned by the State of Ohio;

thence along the eastern line of an existing channel easement owned by the State of Ohio, North 05 degrees 08 minutes 51 seconds East 110.00 feet to the point of beginning.

The above described area is located within Montgomery County Auditor's Permanent Parcel Numbers K45 02602 0010 and K45 02602 0015. The parcel contains 0.042 acres, more or less, of which 0.038 acres is contained within K45 02602 0010, and 0.004 acres is contained within K45 02602 0015.

Parcel 126 CH-2

Situated in the State of Ohio, in the County of Montgomery, in the Township of Miami, in section 10, Town 2, Range 5 M.R.S. and being a part of a tract of land currently owned by The City of Dayton as currently described in the reference instrument M.F. #74-023 D06.

Being a parcel of land lying on the right side of the centerline of existing S.R. 741 of Project MOT-75-0.75, made by the Ohio Department of Transportation in Book 207, Page 12A, B, & C, of the records of Montgomery County, and being located within the following described points in the boundary thereof:

Beginning for reference at the proposed centerline monument located at the intersection of the Miamisburg-Springboro Pike (C.R. 166), station 178+80.09 and S.R. 741, station 39+56.49, said point having the following project adjusted coordinates: North 586268.7404; East 1481449.0814; thence along the existing centerline of S.R. 741, South 05 degrees 06 minutes 48 seconds West 158.41 feet to a point located at station 37+98.08;

thence leaving the existing centerline, South 84 degrees 53 minutes 12 seconds East 60.00 feet to an iron pin to be set 60.00 feet right of station 37+98.08, said point being the intersection of the grantor's western property line and the existing Limited Access Right-of-Way of S.R. 741 and proposed Limited Access Right-of-Way of Miamisburg-Springboro Pike (C.R. 166) and the western line of an existing channel easement owned by the State of Ohio, conveyed by M.F.# 78-638 E02, in the Montgomery County Recorder's Office;

thence along the proposed Limited Access Right-of-Way, North 74 degrees 08 minutes 39 seconds East 5.35 feet to an iron pin to be set 65.00 feet right of station 38+00.00, said point being the intersection of the eastern line of an existing channel easement owned by the State of Ohio and the proposed Limited Access Right-of-Way and the true point of beginning of the following described parcel:

thence along proposed Limited Access Right-of-Way, North 74 degrees 08 minutes 39 seconds East 68.01 feet to an iron pin to be set 128.51 feet right of station 38+24.34;

thence continuing along proposed Limited Access Right-of-Way, South 88 degrees 30 minutes 19 seconds East 12.30 feet to an iron pin to be set 140.79 feet right of station 38+25.12, said point being the intersection of the proposed Limited Access Right-of-Way and the proposed channel easement;

thence leaving the proposed Limited Access Right-of-Way and along the proposed channel easement, South 05 degrees 06 minutes 48 seconds West 467.44 feet to an iron pin to be set 140.79 feet right of station 33+57.68;

thence continuing along the proposed channel easement, South 34 degrees 33 minutes 31 seconds West 52.46 feet to an iron pin to be set 115.00 feet right of station 33+12.00, said point being the intersection of the proposed channel easement and the western line of an existing channel easement owned by the State of Ohio;

thence along the existing channel easement owned by the State of Ohio, North 44 degrees 42 minutes 27 seconds West 58.90 feet to point located 70.00 feet right of station 33+50.00;

thence continuing along the existing channel easement owned by the State of Ohio, North 04 degrees 28 minutes 36 seconds East 450.03 feet to the point of beginning.

The above described area is located within Montgomery County Auditor's Permanent Parcel Number K45 02602 0015. The parcel contains 0.810 acres, more or less.

Issued in Romulus, Michigan on July 17, 2009.
Matthew J. Thys,
Manager, Detroit Airports District Office, FAA, Great Lakes Region.

[FR Doc. E9-19030 Filed 8-7-09; 8:45 am]

BILLING CODE 4910-13-P